SMALL BUSINESS ADMINISTRATION

Caltius Partners V (SBIC), L.P. License No. 09/09-0482; Notice Seeking Exemption Under Section 312 of the Small Business Investment Act, Conflicts of Interest

Notice is hereby given that Caltius Partners V (SBIC), L.P., 11766 Wilshire Blvd., Suite 850, Los Angeles, CA 90025, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Caltius Partners V (SBIC), L.P. proposes to provide senior subordinated loan financing to Emerging Acquisitions, LLC d/b/a Bulk Handling Systems, 3592 West 5th Avenue, Eugene, OR 97402 (“BHS”).

The financing is brought within the purview of § 107.730(a) and (d) of the Regulations because Caltius Equity Partners III, L.P. an Associate of Caltius Partners V (SBIC), L.P., owns more than ten percent of BHS, and therefore this transaction is considered a financing of an Associate requiring prior SBA approval.

Notice is hereby given that any interested person may submit written comments on the transaction, within fifteen days of the date of this publication, to the Associate Administrator for Investment, U.S. Small Business Administration, 409 Third Street SW, Washington, DC 20416.

Dated: February 27, 2018.
A. Joseph Shepard,
Associate Administrator, Office of Investment and Innovation.

[FR Doc. 2018-05134 Filed 3-13-18; 8:45 am]

BILLING CODE P